DEPARTMENT OF AGRICULTURE

Office of the Under Secretary, Research, Education, and Economics Forestry Research Advisory Council; meeting

AGENCY: Cooperative State Research, Education, and Extension Service, USDA.

ACTION: Notice of meeting.

SUMMARY: In accordance with the Federal Advisory Committee Act, 5 U.S.C. app., the United States Department of Agriculture (USDA) announces a meeting of the Forestry Research Advisory Council.

SUPPLEMENTARY INFORMATION: Section 1441(c) of the Agriculture and Food Act of 1981 requires the establishment of the Forestry Research Advisory Council (FRAC) to provide advice to the Secretary of Agriculture on accomplishing efficiently the purposes of the Act of October 10, 1962 (16 U.S.C. 582a, et seq.), known as the McIntire-Stennis Act of 1962. FRAC also provides advice related to the Forest Service research program, authorized by the Forest and Rangeland Resources Research Act of 1978 (Pub. L. 95-307, 92 Stat. 353, as amended; 16 U.S.C. 1600 (note)). FRAC is composed of 18 voting members from Federal and state agencies, forest industries, forestry schools and state agricultural experiment stations, and volunteer public groups. FRAC will meet to (a) hear reports from the Forest Service (USDA), the Cooperative State Research, Education, and Extension Service (USDA), forest industries, and the National Association of Professional Forestry Schools and Colleges, and (b) to formulate advice on Federal and state forestry research for the Secretary of Agriculture.

Dates and Location: FRAC will meet on July 30, 2002, from 8:30 a.m. to 4:00 p.m., and on July 31, 2002, from 8:30 a.m. to 12:00 noon, in the Plant and Animal Systems conference from (room 3455) of the Waterfront Centre located at 800 9th Street SW., Washington, DC 20024. A complete agenda will be available prior to the meeting. To request a copy of the agenda contact Dr. Catalino A. Blanche, FRAC Coordinator, at (202) 401-4190, or fax your request to (202) 401-1706, or e-mail to cblanche@reeusda.gov.

Comments

The public may file written comments with the FRAC Coordinator before the meeting or by August 31, 2002. All statements will become a part of the official records of the Forestry Research Council and will be kept on file for public review in the FRAC Coordinator's office, Room 3413, Waterfront Center, 800 9th Street SW., Washington, DC 20024.

FOR FURTHER INFORMATION CONTACT: Catalino A. Blanche, FRAC Coordinator; Cooperative State Research, Education, and Extension Service; U.S. Department of Agriculture; Mail Stop 2210; 1400 Independence Avenue SW., Washington, DC 20250-2210; telephone: (202) 401-4190; fax: (202) 401-1706; e-mail: cblanche@reeusda.gov.

Done at Washington, DC, this 20th day of July, 2002.
Joseph J. Jen,
Under Secretary, Research, Education, and Economics.

[FR Doc. 02-19258 Filed 7-29-02; 8:45 am]

BILLING CODE 3410-22-M